NUCLEAR REGULATORY COMMISSION

[NRC-2011-0212]

Monitoring the Effectiveness of Maintenance at Nuclear Power Plants

AGENCY: Nuclear Regulatory Commission.

ACTION: Regulatory guide; issuance.

SUMMARY: The U.S. Nuclear Regulatory Commission (NRC or Commission) is issuing a revision to Regulatory Guide (RG) 1.160, “Monitoring the Effectiveness of Maintenance at Nuclear Power Plants.” This guide endorses Revision 4A to Nuclear Management and Resources Council (NUMARC) 93-01, “Industry Guideline for Monitoring the Effectiveness of Maintenance at Nuclear Power Plants,” which provides methods that are acceptable to the NRC staff for complying with the provisions of Title 10 of the Code of Federal Regulations (10 CFR) 50.65, “Requirements for Monitoring the Effectiveness of Maintenance at Nuclear Power Plants,” Part 50, “Domestic Licensing of Production and Utilization Facilities.” Revision 4 of NUMARC 93-01 provides enhanced clarity regarding scoping non-safety related Systems, Structures and Components based on their use in Emergency Operating Procedures, gives guidance on consideration of fire risk in (a)(4) risk assessments, and provides enhanced consistency in unavailability monitoring between the Maintenance Rule and Reactor Oversight process by providing clarification to the definition for monitoring of short term unavailability resulting from periodic system or equipment realignments.

ADDRESSES: Please refer to Docket ID NRC-2011-0212 when contacting the NRC about the availability of information regarding this document. You may access information related to this document, which the NRC possesses and are publicly available, using the following methods:

• Federal Rulemaking Web site: Go to http://www.regulations.gov and search for Docket ID NRC-2011-0212. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The draft regulatory guide is available electronically under ADAMS Accession Number ML111640267 and the regulatory analysis under ADAMS Accession Number ML111640279. NUMARC 93-01 is available under ADAMS Accession Number ML11116A198.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Robert G. Carpenter, Office of Nuclear Regulatory Research, U.S. Nuclear Regulatory Commission, Washington, DC 20555-0001, telephone: 301-251-7483 or email Robert.Carpenter@nrc.gov.

SUPPLEMENTARY INFORMATION: The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

Revision 3 of RG 1.160 was issued with a temporary identification as Draft Regulatory Guide, DG-1278. This regulatory guide endorses NUMARC 93-01 which provides methods that are acceptable to the NRC staff for complying with the provisions of Section 50.65, “Requirements for Monitoring the Effectiveness of Maintenance at Nuclear Power Plants,” of 10 CFR Part 50.

DG-1278, was published in the Federal Register on September 6, 2011 (76 FR 55137) for a 60 day public comment period. The public comment period was extended from October 31, 2011 to November 11, 2011 (76 FR 65753). Public comments on DG-1278 and the staff responses to the public comments are available under ADAMS Accession Number ML11321A272.

Dated at Rockville, Maryland, this 4th day of May, 2011.
For the Nuclear Regulatory Commission.
Thomas H. Boyce,
Chief, Regulatory Guide Development Branch, Division of Engineering, Office of Nuclear Regulatory Research.

[FR Doc. 2012-12215 Filed 5-18-12; 8:45 am]

BILLING CODE 7590-01-P